ENVIRONMENTAL PROTECTION AGENCY

40 CFR Part 63

[EPA-HQ-OAR-2004-0441; FRL-8174-4]

RIN 2060-AI66

National Emission Standards for the Printing and Publishing Industry

AGENCY: Environmental Protection Agency (EPA).

ACTION: Proposed rule.

SUMMARY: On May 30, 1996, EPA issued national emission standards for hazardous air pollutants (NESHAP) for the printing and publishing industry under section 112 of the Clean Air Act (CAA). We are proposing to amend the final rule to resolve issues and questions raised after promulgation of the final rule and to correct errors in the regulatory text. This action also proposes to amend the Paper and Other Web Coating NESHAP and the Printing, Coating, and Dyeing of Fabric and Other Textiles NESHAP to clarify the interaction between these rules and the Printing and Publishing Industry NESHAP. These proposed amendments appear in the Rules and Regulations Section of this Federal Register as a direct final rule.

DATES: Comments. Written comments must be received on or before June 23, 2006 unless a public hearing is requested by June 5, 2006. If a public hearing is requested, written comments must be received on or before July 10, 2006.

Public Hearing. If anyone contacts EPA requesting to speak at a public hearing, a public hearing will be held on June 8, 2006.

ADDRESSES: Submit your comments, identified by Docket ID No. EPA-HQ-OAR-2004-0441, by one of the following methods:

• http://www.regulations.gov: Follow the on-line instructions for submitting comments.

• E-mail: a-and-r-docket@epa.gov and salman.dave@epa.gov.

• Fax: (202) 566-1741 and (919) 541-0246.

• Mail: U.S. Postal Service, send comments to: Air and Radiation Docket (6102T), 1200 Pennsylvania Avenue, NW., Washington, DC 20460. Please include a total of two copies.

• Hand Delivery: In person or by courier, deliver comments to: Air and Radiation Docket (6102T), EPA West Building, Room B-102, 1301 Constitution Avenue, NW., Washington, DC. Such deliveries are only accepted during the Docket's normal hours of operation, and special arrangements should be made for deliveries of boxed information. Please include a total of two copies.

We request that you also send a separate copy of each comment to the contact person listed below (see FOR FURTHER INFORMATION CONTACT).

Instructions: Direct your comments to Docket ID No. EPA-HQ-OAR-2004-0441. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. Send or deliver information identified as CBI only to the following address: Mr. Roberto Morales, OAQPS Document Control Officer, EPA (C404-02), Attention Docket ID No. EPA-HQ-OAR-2004-0441, Research Triangle Park, NC 27711. Clearly mark the part or all of the information that you claim to be CBI.

The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the Air and Radiation Docket homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket, Docket ID No. EPA-HQ-OAR-2004-0441, EPA West Building, Room B-102, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

Public Hearing. If a public hearing is held, it will be held at 10 a.m. at the EPA's Environmental Research Center Auditorium, Research Triangle Park, NC, or at an alternate site nearby.

FOR FURTHER INFORMATION CONTACT: Mr. David Salman, EPA, Office of Air Quality Planning and Standards, Sector Policies and Programs Division, Coatings and Chemicals Group (D205-01), Research Triangle Park, NC 27711; telephone number (919) 541-0859; fax number (919) 541-0246; e-mail address: salman.dave@epa.gov.

SUPPLEMENTARY INFORMATION: Regulated Entities. Categories and entities potentially regulated by this action include:

Category | NAICS * Code | Examples of potentially regulated entities
Industry | 322212 | Folding Paperboard Box Manufacturing.
| 322221 | Coated and Laminated Packaging Paper and Plastics Film Manufacturing.
| 322222 | Coated and Laminated Paper Manufacturing.
| 322223 | Plastics, Foil, and Coated Paper Bag Manufacturing.
| 322224 | Uncoated Paper and Multiwall Bag Manufacturing.
| 322225 | Laminated Aluminum Foil Manufacturing for Flexible Packaging.
| 323111 | Commercial Gravure Printing.
| 323112 | Commercial Flexographic Printing.
| 323119 | Other Commercial Printing.
| 326192 | Resilient Floor Covering Manufacturing.
* North American Industry Classification System.

This table is not intended to be exhaustive, but rather provides a guide for readers regarding entities likely to be regulated by this action. To determine whether your facility is regulated by this action, you should examine the applicability criteria of the rule. If you have any questions regarding the applicability of this action to a particular entity, consult the person listed in the preceding FOR FURTHER INFORMATION CONTACT section.

Submitting CBI. Do not submit information which you claim to be CBI to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. Information so marked will not be disclosed except in accordance with procedures set forth in 40 CFR part 2. In addition to one complete version of the comment that includes information claimed as CBI, a copy of the comment that does not contain the information claimed as CBI must be submitted for inclusion in the public docket.

Public Hearing. Persons interested in presenting oral testimony or inquiring as to whether a hearing is to be held should contact Mr. David Salman, EPA, Office of Air Quality Planning and Standards, Sector Policies and Programs Division, Coatings and Chemicals Group (D205-01), Research Triangle Park, NC 27711, telephone number (919) 541-0859, e-mail address: salman.dave@epa.gov, at least 2 days in advance of the potential date of the public hearing. Persons interested in attending the public hearing must also call Mr. Salman to verify the time, date, and location of the hearing. The public hearing will provide interested parties the opportunity to present data, views, or arguments concerning these proposed emission standards.

Worldwide Web (WWW). In addition to being available in the docket, an electronic copy of today's proposal will also be available through the WWW. Following the Administrator's signature, a copy of this action will be posted on EPA's Technology Transfer Network (TTN) policy and guidance page for newly proposed or promulgated rules at http://www.epa.gov/ttn/oarpg/. The TTN at EPA's Web site provides information and technology exchange in various areas of air pollution control.

Direct Final Rule. A direct final rule identical to this proposal is published in the Rules and Regulations section of today's Federal Register. For further supplementary information, the detailed rationale for the proposal and the regulatory revisions, see the direct final rule.

We are taking direct final action because we view the amendments as noncontroversial and anticipate no adverse comments. We have explained our reasons for the amendments in the preamble to the direct final rule. If we receive no adverse comments, we will take no further action on the proposed rule. If we receive adverse comments, we will withdraw only the amendments, sections or paragraphs of the direct final rule on which we received adverse comments. We will publish a timely withdrawal in the Federal Register indicating which will become effective and which are being withdrawn. If part or all of the direct final rule in the Rules and Regulations section of today's Federal Register is withdrawn, all comments pertaining to those provisions will be addressed in a subsequent final rule based on the proposed rule. We will not institute a second comment period on today's proposed rule. Any parties interested in commenting must do so at this time.

Statutory and Executive Order Reviews

For a complete discussion of all of the administrative requirements applicable to this action, see the direct final rule in the Rules and Regulations section of today's Federal Register.

Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impact of today's proposed rule amendments on small entities, a small entity is defined as: (1) A small business ranging from 500 to 1,000 employees as defined by the Small Business Administration's size standards; (2) a small governmental jurisdiction that is a government or a city, county, town, school district or special district with a population of less than 50,000; and (3) a small organization that is any not-for-profit enterprise which is independently owned and operated and is not dominant in its field.

After considering the economic impacts of today's proposed rule amendments on small entities, I certify that this action will not have a significant economic impact on a substantial number of small entities.

We conducted an assessment of the impact of the May 30, 1996 final rule on small businesses within the industries affected by that rule. This analysis allowed us to conclude that there would not be a significant economic impact on a substantial number of small entities from the implementation of that rule. There is nothing contained in the proposed rule amendments that will impose an economic impact on small businesses in any way not considered in the analysis of the May 30, 1996 final rule; this means that the proposed rule amendments have no incremental economic impact on small businesses beyond what was already examined in the final rule. We continue to be interested in the potential impacts of the proposed rule amendments on small entities and welcome comments on issues related to such impacts.

List of Subjects in 40 CFR Part 63

Environmental protection, Air pollution control, Hazardous substances, Reporting and recordkeeping requirements.

Dated: May 18, 2006.
Stephen L. Johnson,
Administrator.

[FR Doc. 06-4822 Filed 5-23-06; 8:45 am]

BILLING CODE 6560-50-P